SECURITIES AND EXCHANGE COMMISSION

[Release No. 34-99001; File No. 4-698]

Joint Industry Plan; Notice of Withdrawal of Amendment to the National Market System Plan Governing the Consolidated Audit Trail

November 21, 2023.

On August 3, 2023, the Operating Committee for Consolidated Audit Trail, LLC (“CAT LLC”), on behalf of the following parties to the National Market System Plan Governing the Consolidated Audit Trail (the “CAT NMS Plan”): ¹ BOX Exchange LLC, Cboe BYX Exchange, Inc., Cboe BZX Exchange, Inc., Cboe EDGA Exchange, Inc., Cboe EDGX Exchange, Inc., Cboe C2 Exchange, Inc., Cboe Exchange, Inc., Financial Industry Regulatory Authority, Inc., Investors Exchange LLC, Long-Term Stock Exchange, Inc., MEMX LLC, Miami International Securities Exchange LLC, MIAX Emerald, LLC, MIAX PEARL, LLC, Nasdaq BX, Inc., Nasdaq GEMX, LLC, Nasdaq ISE, LLC, Nasdaq MRX, LLC, Nasdaq PHLX LLC, The NASDAQ Stock Market LLC, New York Stock Exchange LLC, NYSE American LLC, NYSE Arca, Inc., NYSE Chicago, Inc. and NYSE National, Inc. (collectively, the “Participants”) filed with the Securities and Exchange Commission (“Commission”) pursuant to Section 11A(a)(3) of the Securities Exchange Act of 1934 (“Exchange Act”),² and Rule 608 of Regulation NMS thereunder,³ a proposed amendment to the CAT NMS Plan to modify the current linkage timeline for the consolidated audit trail to a different linkage timeline.⁴ The proposed plan amendment (the “Proposed Amendment”) was published for comment in the Federal Register on August 24, 2023.⁵

¹ The CAT NMS Plan is a national market system plan approved by the Commission pursuant to Section 11A of the Exchange Act and the rules and regulations thereunder. See Exchange Act Release No. 79318 (Nov. 15, 2016), 81 FR 84696 (Nov. 23, 2016). Unless otherwise defined herein, capitalized terms used herein are defined as set forth in the CAT NMS Plan.

² 15 U.S.C. 78k-1(a)(3).

³ 17 CFR 242.608.

⁴ See Letter from Brandon Becker, CAT NMS Plan Operating Committee Chair, to Vanessa Countryman, Secretary, Commission (Aug. 3, 2023).

⁵ See Exchange Act Release No. 98165 (Aug. 18, 2023), 88 FR 58012 (Aug. 24, 2023). Comments received in response to the Notice can be found on the Commission's website at https://www.sec.gov/comments/4-698/4-698-c.htm.

The Commission is publishing this notice to reflect that on November 9, 2023, prior to the end of the 90-day period provided for in Rule 608(b)(2)(i) of Regulation NMS,⁶ the Participants withdrew the Proposed Amendment.⁷

⁶ See 17 CFR 242.608(b)(2)(i).

⁷ See Letter from Brandon Becker, CAT NMS Plan Operating Committee Chair, to Vanessa Countryman, Secretary, Commission (Nov. 9, 2023).

By the Commission.
J. Matthew DeLesDernier,
Deputy Secretary.

[FR Doc. 2023-26125 Filed 11-27-23; 8:45 am]

BILLING CODE 8011-01-P